ENVIRONMENTAL PROTECTION AGENCY

40 CFR Part 60

[SC-AT-2001-01; FRL-6956-1]

New Stationary Sources; Supplemental Delegation of Authority to the State of South Carolina

AGENCY: Environmental Protection Agency (EPA).

ACTION: Delegation of authority.

SUMMARY: The South Carolina Department of Health and Environmental Control (SCDHEC or State agency) has requested that EPA approve the “adopt-by-reference” mechanism for delegation of New Source Performance Standards (NSPS). The purpose of the State agency request for approval of its delegation mechanism is to streamline existing administrative procedures by eliminating any unnecessary steps involved in the federal delegation process. With this NSPS delegation mechanism in place, an NSPS promulgated by EPA will become effective in South Carolina on the date the NSPS is adopted if the State agency adopts the NSPS without change. No further State requests for delegation will be necessary. Likewise, no further Federal Register documents will be published. However, if an NSPS regulation is adopted by the State agency with changes, EPA reserves the right to review and comment on the revised NSPS. The State is required to notify EPA of the revisions. If EPA determines that the revisions are equivalent to the federal NSPS then delegation will occur and notice will be published in the Federal Register. EPA reserves the right to implement the federal NSPS directly and continues to retain concurrent enforcement authority.

On October 19, 1976, the EPA initially delegated the authority for implementation and enforcement of the NSPS program to the State of South Carolina. The EPA's review of the State agency's pertinent laws, rules, and regulations indicate that adequate and effective procedures are in place for the implementation and enforcement of these Federal standards. This document was written to inform the public of the State agency's new mechanism for delegation (adopt-by-reference) of NSPS.

EFFECTIVE DATE: The effective date is March 27, 2001.

ADDRESSES: Copies of the request for delegation of authority and EPA's letter of delegation are available for public inspection during normal business hours at the following locations: Environmental Protection Agency, Region 4, Air & Radiation Technology Branch, 61 Forsyth Street, SW., Atlanta, Georgia 30303.

South Carolina Department of Health and Environmental Control, 2600 Bull Street, Columbia, South Carolina 29201-1708.

Effective March 27, 2001, all requests, applications, reports and other correspondence required by any NSPS should not be submitted to the EPA Region 4 office, but should instead be submitted to the following address: South Carolina Department of Health and Environmental Control, 2600 Bull Street, Columbia, South Carolina 29201-1708.

FOR FURTHER INFORMATION CONTACT: Katy Forney, Air & Radiation Technology Branch, Environmental Protection Agency, Region 4, 61 Forsyth St. SW, Atlanta, Georgia 30303, 404-562-9130. E-mail: reeves.kathleen@epa.gov

SUPPLEMENTARY INFORMATION: Section 301, in conjunction with sections 110 and 111(c)(1) of the Clean Air Act as amended November 15, 1990, authorize EPA to delegate authority to implement and enforce the standards set out in 40 CFR part 60, New Source Performance Standards (NSPS).

All current NSPS categories are delegated with the exception of the following sections within those subparts that may not be delegated. Future NSPS regulations will contain a list of sections that will not be delegated for that subpart.

1. Subpart A—§§ 60.8(b) (2) and (3), 60.11(e) (7) and (8), and 60.13 (g), (i) and (j)(2)

2. Subpart B—§§ 60.22, 60.27 and 60.29

3. Subpart Da—§ 60.45a

4. Subpart Db—§§ 60.44b(f), 60.44b(g) and 60.49b(a)(4)

5. Subpart Dc—§ 60.48c(a)(4)

6. Subpart Ec—§ 60.56(c)(i)

7. Subpart J—§§ 60.105(a)(13)(iii) and 60.106(i)(12)

8. Subpart Ka—§ 60.114a

9. Subpart Kb—§§ 60.111b(f)(4), 60.114b, 60.116b(e)(3) (iii) and (iv) and 60.116b(f)(2)(iii)

10. Subpart O—§ 60.153(e)

11. Subpart EE—§ 60.316(d)

12. Subpart GG—§§ 60.334(b)(2) and 60.335(f)(1)

13. Subpart RR—§ 60.446(c)

14. Subpart SS—§ 60.456(d)

15. Subpart TT—§ 60.466(d)

16. Subpart UU—§ 60.474(g)

17. Subpart VV—§§ 60.482-1(c)(2) and 60.484

18. Subpart WW—§ 60.496(c)

19. Subpart XX—§ 60.502(e)(6)

20. Subpart AAA—§§ 60.531, 60.533, 60.534, 60.535, 60.536(i)(2), 60.537, 60.538(e) and 60.539

21. Subpart BBB—§ 60.543(c)(2)(ii)(B)

22. Subpart DDD—§ 60.562-2(c)

23. Subpart III—§ 60.613(e)

24. Subpart NNN—§ 60.663(e)

25. Subpart RRR—§ 60.703(e)

26. Subpart SSS—§§ 60.711(a)(16), 60.713(b)(1)(i), 60.713(b)(1)(ii), 60.713(b)(5)(i), 60.713(d), 60.715(a) and 60.716

27. Subpart TTT—§§ 60.723(b)(1), 60.723(b)(2)(i)(C), 60.723(b)(2)(iv), 60.724(e) and 60.725(b)

28. Subpart VVV—§§ 60.743(a)(3)(v) (A) and (B), 60.743(e), 60.745(a) and 60.746

29. Subpart WWW—§ 60.754(a)(5)

After a thorough review of the request, the Regional Administrator determined that such a delegation was appropriate for all source categories. All sources subject to the requirements of 40 CFR part 60 will now be under the jurisdiction of the appropriate above mentioned agency.

Since review of the pertinent laws, rules, and regulations for the State agency has shown them to be adequate for implementation and enforcement of the NSPS, EPA hereby notifies the public that it is approving adoption-by-reference as the mechanism for delegation of the NSPS source categories upon publication of this Federal Register document.

Administrative Requirements

The Office of Management and Budget has exempted this regulatory action from Executive Order 12866, entitled “Regulatory Planning and Review.”

The Congressional Review Act, as amended by the Small Business Regulatory Enforcement Fairness Act of 1996 (5 U.S.C. 801 et seq.), generally provides that before a rule may take effect, the agency promulgating the rule must submit a rule report, which includes a copy of the rule, to each House of the Congress and to the Comptroller General of the United States. However, section 808 allows the issuing agency to make a rule effective sooner than otherwise provided by the Congressional Review Act if the agency makes a good cause finding that notice and public procedure is impracticable, unnecessary or contrary to the public interest. This determination must be supported by a brief statement. 5 U.S.C. 808(2). As stated previously, EPA has made such a good cause finding, including the reasons therefor, and established an effective date of [insert date of publication]. EPA will submit a report containing this rule and other required information to the U.S. Senate, the U.S. House of Representatives, and the Comptroller General of the United States prior to publication of the rule in the Federal Register. This action is not a “major rule” as defined by 5 U.S.C. 804(2).

Authority: This document is issued under the authority of sections 101, 110, 111, 112 and 301 of the Clean Air Act, as Amended (42 U.S.C. 7401, 7410, 7411, 7412 and 7601).

Dated: March 8, 2001.
A. Stanley Meiburg,
Acting Regional Administrator, Region 4.

[FR Doc. 01-7516 Filed 3-26-01; 8:45 am]

BILLING CODE 6560-50-P